DEPARTMENT OF AGRICULTURE

Animal and Plant Health Inspection Service

9 CFR Part 94

[Docket No. APHIS-2014-0032]

RIN 0579-AD92

Importation of Beef From a Region in Argentina

AGENCY: Animal and Plant Health Inspection Service, USDA.

ACTION: Final rule; technical amendment.

SUMMARY: In a final rule published in the Federal Register on July 2, 2015, and effective on September 1, 2015, we amended the regulations governing the importation of certain animals, meat, and other animal products to allow, under certain conditions, the importation of fresh (chilled or frozen) beef from a region in Argentina located north of Patagonia South and Patagonia North B, referred to as Northern Argentina. However, we inadvertently limited the requirement for the maturation of carcasses to meat derived from bovines. Therefore, we are amending the paragraph to remove the limitation.

DATES: Effective January 19, 2017.

FOR FURTHER INFORMATION CONTACT: Dr. Roberta Morales, Import Risk Analyst, Regional Evaluation Services, National Import Export Services, VS, APHIS, 920 Main Campus Drive, Suite 200, Raleigh, NC; (919) 855-7735; Roberta.A.Morales@aphis.usda.gov.

SUPPLEMENTARY INFORMATION: In a final rule ¹ that was published in the Federal Register on July 2, 2015 (80 FR 37935-37953, Docket No. APHIS-2014-0032), and effective on September 1, 2015, we amended the regulations governing the importation of certain animals, meat, and other animal products to allow, under certain conditions, the importation of fresh (chilled or frozen) beef from a region in Argentina located north of Patagonia South and Patagonia North B, referred to as Northern Argentina. These requirements appear in 9 CFR 94.29, which provides for the importation of fresh beef and ovine meat from certain regions. However, when we added the requirements, we inadvertently limited the requirements in paragraph (i), which provides the requirements for the maturation of carcasses, to meat derived from bovines. Therefore, we are amending the paragraph to remove the limitation.

¹ To view the final rule and supporting documents, go to http://www.regulations.gov/#!docketDetail;D=APHIS-2014-0032.

Lists of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, NEWCASTLE DISEASE, HIGHLY PATHOGENIC AVIAN INFLUENZA, AFRICAN SWINE FEVER, CLASSICAL SWINE FEVER, SWINE VESICULAR DISEASE, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.29 [Amended]

2. In § 94.29, paragraph (i) is amended by removing the word “bovine”.

Done in Washington, DC, this 12th day of January 2017.
Kevin Shea,
Administrator, Animal and Plant Health Inspection Service.

[FR Doc. 2017-01019 Filed 1-18-17; 8:45 am]

BILLING CODE 3410-34-P